ENVIRONMENTAL PROTECTION AGENCY

40 CFR Part 60

Standards of Performance for New Stationary Sources

CFR Correction

In title 40 of the Code of Federal Regulations, part 60 (§ 60.1 to End), revised as of July 1, 2003, in § 60.51c, on page 204, in the definition of Maximum design waste burning capacity, in paragraph (1), in the ninth line, correct “68,500” to read “8,500” and in paragraph (2), in the sixth line, correct “164.5” to read “4.5”.

[FR Doc. 03-55529 Filed 10-29-03; 8:45 am]

BILLING CODE 1505-01-D